DEPARTMENT OF ENERGY

Office of Security and Emergency Operations; Agency Information Collection Activities: Proposed Collection; Comment Request

AGENCY: Department of Energy.

ACTION: Notice of proposed Agency information collection and request for comments.

SUMMARY: The Department of Energy (DOE) invites public comment on a proposed information collection that DOE is developing for submission to the Office of Management and Budget (OMB), pursuant to the Paperwork Reduction Act of 1995. This collection would gather information over a three-year period from DOE Federal and contractor employees concerning their opinion of the DOE security program in the workplace.

DATES: Written comments must be submitted by April 2, 2001. If you anticipate difficulty in submitting comments within that period, contact the person listed below as soon as possible.

ADDRESSES: Written comments may be sent to Stephanie Grimes, U.S. Department of Energy, Headquarters, SO-213, 19901 Germantown Road, Germantown, MD, 20874-1290; or by FAX at (301) 903-4601; or by e-mail at stephanie.grimes@hq.doe.gov.

FOR FURTHER INFORMATION CONTACT: Requests for additional information or copies of the forms and instructions should be directed to Stephanie Grimes using the contact information listed above.

SUPPLEMENTARY INFORMATION: Collection Title: Security Opinion Survey.

OMB Control Number: None.

Type of Request: New collection.

Frequency of response: semi-annually.

Respondents: DOE Federal and contractor employees.

Estimated number of annual respondents: 12,000.

Estimated total annual burden hours: 4,000 hours.

Background

The Department of Energy, as part of its effort to comply with the Paperwork Reduction Act of 1995 (Pub. L. 104-13, 44 U.S.C. Chapter 35), provides the general public and other Federal agencies with opportunities to comment on collections of information conducted by or in conjunction with DOE. Any comments received help the Department to prepare data requests that maximize the utility of the information collected, and to assess the impact of collection requirements on the public. Also, DOE will later seek approval by the Office of Management and Budget (OMB) of the collections under Section 3506(c) of the Paperwork Reduction Act of 1995.

Data will be collected from DOE Federal and contractor employees to ascertain their opinion of the DOE security program. Data will be collected from employees using a web-based survey and will consist of 30 multiple choice opinion questions. Participation is totally voluntary and anonymous. The data collected will indicate the respondent's opinion of the effectiveness of the DOE security program in the workplace and indicate those security functional areas which require increased security education and awareness emphasis. The data will also provide input for an evaluation of the DOE Security Program performance in compliance with the Government Performance and Results Act 1993 (GPRA).

Request for Comments

DOE invites comments from prospective respondents and other interested parties on: (1) Whether the proposed collection of data is necessary to measure the opinion of DOE employees regarding the effectiveness of the DOE security program; (2) the accuracy of DOE's estimate of the burden of the proposed information collection; or (3) any means of minimizing the burden of the collection of information on those who choose to respond. Additional information about DOE's proposed information collection may be obtained from the contact person named in this notice.

Comments submitted in response to this notice will be summarized and/or included in the request for OMB approval of the form. They also will become a matter of public record.

Statutory Authority: Section 3506(c) of the Paperwork Reduction Act of 1995 (Pub. L. 104-13, 44 U.S.C. Chapter 35).

Issued in Washington, DC on January 24, 2001.
Susan L. Frey,
Director, Records Management Division, Office of Records and Business Management, Office of the Chief Information Officer.

[FR Doc. 01-2762 Filed 1-31-01; 8:45 am]

BILLING CODE 6450-01-P